NATIONAL AERONAUTICS AND SPACE ADMINISTRATION

14 CFR Ch. V

Regulatory Agenda

AGENCY: National Aeronautics and Space Administration (NASA).

ACTION: Semiannual regulatory agenda.

SUMMARY: NASA's regulatory agenda describes those regulations being considered for development or amendment by NASA, the need and legal basis for the actions being considered, the name and telephone number of the knowledgeable official, whether a regulatory analysis is required, and the status of regulations previously reported.

ADDRESSES: Director, for Internal Controls and Management Systems, Office of Management Systems Division, NASA Headquarters, Washington, DC 20546.

FOR FURTHER INFORMATION CONTACT: Cheryl E. Parker, (202) 358-0252.

SUPPLEMENTARY INFORMATION: OMB guidelines dated June 13, 2012; “Fall 2012 Regulatory Plan and Unified Agenda of Federal Regulatory and Deregulatory Actions” require a regulatory agenda of those regulations under development and review to be published in the Federal Register each April and October. This edition of the Unified Agenda includes NASA's Statement of Regulatory Priorities, which appears in Part II of this issue of the Federal Register. The complete Unified Agenda will be published at www.reginfo.gov.

Dated: October 19, 2012.
Nancy Anne Baugher,
Director, for Internal Controls and Management Systems.

National Aeronautics and Space Administration—Proposed Rule Stage
Sequence No. | Title | Regulation Identifier No.
379 | Nondiscrimination on Basis of Handicap (Section 610 Review) | 2700-AD85

NATIONAL AERONAUTICS AND SPACE ADMINISTRATION (NASA)

Proposed Rule Stage

379. Nondiscrimination on Basis of Handicap (Section 610 Review)

Legal Authority: 29 U.S.C. 794, sec 504 of the Rehabilitation Act of 1973, amended

Abstract: This proposed rule amends 14 CFR 1251 to align with the Department of Justice's (DOJ) implementing regulations incorporating the new accessibility standards. Other amendments include updates to organizational information, use of the term “disability” in lieu of the term “handicap,” changes to definitions, and other sections based on the Americans with Disabilities Act of 2008.

Part 1251 implements the federally assisted provisions of section 504 of the Rehabilitation Act of 1973 (section 504), as amended, 29 U.S.C. section 794, which prohibits discrimination on the basis of disability by recipients of Federal Financial Assistance from NASA. Under Executive Order No. 12250, the United States Attorney General has the authority to coordinate the implementation and enforcement of a variety of civil rights statutes by Federal agencies such as NASA, including section 504.

The revisions to this rule are part of NASA's retrospective plan under Executive Order 13563 completed in August 2011. NASA's full plan can be accessed at: http://www.nasa.gov/open.

Timetable:

Action | Date | FR Cite
NPRM | 02/00/13 |

Regulatory Flexibility Analysis Required: No.

Agency Contact: Robert W. Cosgrove, External Compliance Manager, National Aeronautics and Space Administration, 300 E Street SW., Washington, DC 20546, Phone: 202 358-0446, Fax: 202 358-3336, Email: robert.cosgrove@nasa.gov.

RIN: 2700-AD85

[FR Doc. 2012-31505 Filed 1-7-13; 8:45 am]

BILLING CODE 7510-13-P